DEPARTMENT OF THE TREASURY

Submission for OMB Review; Comment Request

November 15, 2011.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue NW., Suite 11010, Washington, DC 20220.

DATES: Written comments should be received on or before December 19, 2011 to be assured consideration.

Internal Revenue Service (IRS)

OMB Number: 1545-NEW.

Type of Review: New collection.

Title: Report of Organizational Actions Affecting Basis of Securities.

Forms: 8937.

Abstract: Organizational actions that affect the basis of stock will be reported on this form. This form will be sent to stock holders of record and nominees affected.

Respondents: Private Sector: Businesses or other for-profits.

Estimated Total Burden Hours: 206,500.

Bureau Clearance Officer: Yvette Lawrence, Internal Revenue Service, 1111 Constitution Avenue NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-29814 Filed 11-17-11; 8:45 am]

BILLING CODE 4830-01-P